GENERAL SERVICES ADMINISTRATION

[OMB Control No. 3090-00XX; Docket 2010-0002; Sequence 10]

General Services Administration Acquisition Regulation; Submission for OMB Review; GSA Advantage!® and Electronic Commerce-FACNET

AGENCY: Office of the Chief Acquisition Officer, GSA.

ACTION: Notice of a request for comments regarding a new OMB clearance.

SUMMARY: Under the provisions of the Paperwork Reduction Act of 1995 (44 U.S.C. Chapter 35), the General Services Administration will be submitting to the Office of Management and Budget (OMB) a request to review and approve a new information collection requirement regarding GSA Advantage!® and Electronic Commerce-FACNET. A request for public comments was published in the Federal Register at 74 FR 4596, January 26, 2009. No comments were received.

Public comments are particularly invited on: Whether this collection of information is necessary and whether it will have practical utility; whether our estimate of the public burden of this collection of information is accurate, and based on valid assumptions and methodology; ways to enhance the quality, utility, and clarity of the information to be collected.

DATES: Submit comments on or before: April 19, 2010.

FOR FURTHER INFORMATION CONTACT: Warren Blankenship, Procurement Analyst, Contract Policy Division, at telephone (202) 501-1900 or via e-mail at warren.blankenship@gsa.gov.

ADDRESSES: Submit comments regarding this burden estimate or any other aspect of this collection of information, including suggestions for reducing this burden to the GSA Desk Officer, OMB, Room 10236, NEOB, Washington, DC 20503, and a copy to the Regulatory Secretariat (MVCB), General Services Administration, 1800 F Street, NW., Room 4041, Washington, DC 20405. Please cite OMB Control No. 3090-00XX, GSA Advantage!® and Electronic Commerce-FACNET, in all correspondence.

SUPPLEMENTARY INFORMATION:

A. Purpose

Federal Supply Schedules (FSS) contractors must participate in the GSA Advantage!® system at 552.238-55. It is an online shopping service which, via the Electronic Commerce clause at 552.238-56, receives catalogs, invoices and text messages as well as sends purchase orders, application advice, and functional acknowledgements.

B. Annual Reporting Burden

Number of Respondents: 16,634.

Responses per Respondent: 3.5.

Annual Responses: 58,219.

Average Burden per Response: 2.

Total Burden Hours: 116,438.

Obtaining Copies of Proposals: Requesters may obtain a copy of the information collection documents from the General Services Administration, Regulatory Secretariat (MVCB), 1800 F Street, NW., Room 4041, Washington, DC 20405, telephone (202) 501-4755. Please cite OMB Control No. 3090-00XX, GSA Advantage!® and Electronic Commerce-FACNET, in all correspondence.

Dated: March 5, 2010.
Al Matera,
Director, Acquisition Policy Division.

[FR Doc. 2010-5931 Filed 3-17-10; 8:45 am]

BILLING CODE 6820-34-P